DEPARTMENT OF COMMERCE

National Oceanic and Atmospheric Administration

RIN 0648-XF969

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of its Hawaii Archipelago Fishery Ecosystem Plan (FEP) Advisory Panel (AP) to discuss and make recommendations on fishery management issues in the Western Pacific Region.

DATES: The Hawaii Archipelago FEP AP will meet on Thursday, February 15, 2018, from 9 a.m. and 11 a.m. All times listed are local island times. For specific times and agendas, see SUPPLEMENTARY INFORMATION.

ADDRESSES: The Hawaii Archipelago FEP AP will meet at the Council Office, 1164 Bishop St, Suite 1400, Honolulu, HI 96813 and by teleconference. The teleconference will be conducted by telephone. The teleconference numbers are: U.S. toll-free: 1-888-482-3560 or International Access: +1 647 723-3959, and Access Code: 5228220.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Hawaii Archipelago FEP AP Meeting

Thursday, February 15, 2018, 9 a.m.-11 a.m.

1. Welcome and Introductions

2. Report on Previous Council Action Items

3. Council Issues

A. Precious Corals Essential Fish Habitat Refinement Options

B. Options for an Aquaculture Management Program

C. Hawaii Longline Shallow-set Fishery Hard Cap Options

4. Hawaii FEP Community Activities

5. Hawaii FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 19, 2018.
Jeffrey N. Lonergan,
Acting Deputy Director, Office of Sustainable Fisheries, National Marine Fisheries Service.

[FR Doc. 2018-01292 Filed 1-23-18; 8:45 am]

BILLING CODE 3510-22-P